DEPARTMENT OF ENERGY

Federal Energy Regulatory Commission

[Project No. 2428-007; Project No. 10254-026; Project No. 10253-032]

Aquenergy Systems, LLC; Pelzer Hydro Company, LLC and Consolidated Hydro Southeast, LLC; Pelzer Hydro Company, LLC and Consolidated Hydro Southeast, LLC; Notice of Availability of Final Environmental Assessment

In accordance with the National Environmental Policy Act of 1969 and the Federal Energy Regulatory Commission's (Commission) regulations, 18 CFR part 380, the Office of Energy Projects has reviewed the applications for licenses for the Piedmont (FERC Project No. 2428-007), Upper Pelzer (FERC Project No. 10254-026), and Lower Pelzer (FERC Project No. 10253-032) Hydroelectric Projects located on the Saluda River in Anderson and Greenville Counties, South Carolina, and has prepared a Final Environmental Assessment (FEA).

The FEA contains staff's analysis of the potential environmental impacts of the projects and concludes that licensing the projects, with appropriate environmental protective measures, would not constitute a major federal action that would significantly affect the quality of the human environment.

A copy of the FEA is available for review at the Commission in the Public Reference Room, or may be viewed on the Commission's website at www.ferc.gov using the “eLibrary” link. Enter one of the docket numbers, excluding the last three digits in the docket number field, to access the document. For assistance, contact FERC Online Support at FERCOnlineSupport@ferc.gov, or toll-free at 1-866-208-3676, or for TTY, 202-502-8659.

You may also register online at www.ferc.gov/docs-filing/esubscription.asp to be notified via email of new filings and issuances related to this or other pending projects. For assistance, contact FERC Online Support.

For further information, contact Navreet Deo by telephone at 202-502-6304, or by email at navreet.deo@ferc.gov.

Dated: October 31, 2019.
Nathaniel J. Davis, Sr.,
Deputy Secretary.

[FR Doc. 2019-24204 Filed 11-5-19; 8:45 am]

BILLING CODE 6717-01-P